DEPARTMENT OF THE INTERIOR

[2253-665]

National Park Service

Notice of Inventory Completion: Western Michigan University, Anthropology Department, Kalamazoo, MI

AGENCY: National Park Service, Interior.

ACTION: Notice.

SUMMARY: Western Michigan University, Department of Anthropology, has completed an inventory of human remains, in consultation with the appropriate Indian tribes, and has determined that there is no cultural affiliation between the human remains and any present-day Indian tribe. Representatives of any Indian tribe that believes itself to be culturally affiliated with the human remains may contact the Western Michigan University, Department of Anthropology. Disposition of the human remains to the Indian tribe stated below may occur if no additional requestors come forward.

DATES: Representatives of any Indian tribe that believes it has a cultural affiliation with the human remains should contact the Western Michigan University, Department of Anthropology, at the address below by June 13, 2011.

ADDRESSES: LouAnn Wurst, Department of Anthropology, Western Michigan University, 1005 Moore Hall, Kalamazoo, MI 49008, telephone (269) 387-2753.

SUPPLEMENTARY INFORMATION: Notice is here given in accordance with the Native American Graves Protection and Repatriation Act (NAGPRA), 25 U.S.C. 3003, of the completion of an inventory of human remains in the possession of the Western Michigan University, Department of Anthropology, Kalamazoo, MI. The human remains were removed from Newaygo County, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Western Michigan University, Department of Anthropology, professional staff in consultation with representatives of the Little River Band of Ottawa Indians, Michigan; Match-e-be-nash-she-wish Band of Pottawatomi Indians of Michigan; and the Pokagon Band of Potawatomi Indians, Michigan and Indiana.

History and Description of the Remains

Between 1967 and 1968, human remains representing a minimum of three individuals were removed from Section 11, Lilley Township, Sission Lake Site, Newaygo County, MI, during excavation by the (now former) Newaygo County Archaeological Society. After recovery, the remains and funerary objects were sent to Western Michigan University for further analysis and curation by Dr. Robert Sundick. No known individuals were identified. The funerary objects were identified in the excavators' original notes and originally listed in the museum inventory, but are not currently found in the collection. Therefore, the associated funerary objects are missing from the collection.

The remains were recovered from a mound context. Two of the crania are adults and the third is from an adolescent. The skeletal remains are primarily cranium and longbones, suggesting the possibility of secondary internments. The Sission Lake Site is dated to the Middle to Early Late Woodland period (circa A.D. 600-800) based on the typologies of the funerary objects described in the excavators' notes.

Determinations Made by the Western Michigan University, Department of Anthropology

Officials of the Western Michigan University, Department of Anthropology, have determined that:

• Based on removal from a mound, Woodland time period of associated artifacts, and skeletal and dental morphology, the human remains are Native American.

• Pursuant to 25 U.S.C. 3001(2), a relationship of shared group identity cannot be reasonably traced between the Native American human remains and any present-day Indian tribe.

• Multiple lines of evidence, including the Treaty of Washington (1836), continued occupation, and oral tradition, indicate that the land from which the Native American human remains were removed is the aboriginal land of the Little River Band of Ottawa Indians, Michigan.

• Pursuant to 25 U.S.C. 3001(9), the human remains described in this notice represent the physical remains of three individuals of Native American ancestry.

• Pursuant to 43 CFR 10.11(c)(1), the disposition of the human remains is to the Little River Band of Ottawa Indians, Michigan.

Additional Requestors and Disposition

Representatives of any Indian tribe that believes itself to be culturally affiliated with the human remains or any other Indian tribe that believes it satisfies the criteria in 43 CFR 10.11(c)(1) should contact LouAnn Wurst, Department of Anthropology, Western Michigan University, 1005 Moore Hall, Kalamazoo, MI 49008, telephone (269) 387-2753, before June 13, 2011. Disposition of the human remains to the Little River Band of Ottawa Indians, Michigan, may proceed after that date if no additional requestors come forward.

The Western Michigan University, Department of Anthropology, is responsible for notifying the Little River Band of Ottawa Indians, Michigan; Match-e-be-nash-she-wish Band of Pottawatomi Indians of Michigan; and the Pokagon Band of Potawatomi Indians, Michigan and Indiana, that this notice has been published.

Dated: May 9, 2011.
Sherry Hutt,
Manager, National NAGPRA Program.

[FR Doc. 2011-11851 Filed 5-12-11; 8:45 am]

BILLING CODE 4312-50-P